DEPARTMENT OF THE INTERIOR

Fish and Wildlife Service

Request for Information and Recommendations on Species Proposals, Resolutions, Decisions, and Agenda Items for Consideration at the Fourteenth Regular Meeting of the Conference of the Parties to the Convention on International Trade in Endangered Species of Wild Fauna and Flora; U.S. Approach for the Meeting of the Conference of the Parties

AGENCY: Fish and Wildlife Service, Interior.

ACTION: Notice; request for information.

SUMMARY: In order to implement the Convention on International Trade in Endangered Species of Wild Fauna and Flora (CITES or the Convention), the Parties to the Convention meet periodically to review which species in international trade should be regulated and other aspects of the implementation of CITES. The fourteenth regular meeting of the Conference of the Parties to CITES (CoP14) is tentatively scheduled to be held June 3-15, 2007, in The Hague, Netherlands. Therefore, with this notice we are soliciting recommendations for amending Appendices I and II of CITES at CoP14. We are also soliciting recommendations for resolutions, decisions, and agenda items for discussion at CoP14. We invite you to provide us with information and recommendations on animal and plant species that should be considered as candidates for U.S. proposals to amend CITES Appendices I and II. Such amendments may concern the addition of species to Appendix I or II, the transfer of species from one Appendix to another, or the removal of species from Appendix II. We also invite you to provide us with information and recommendations on possible resolutions, decisions, and agenda items for discussion at the upcoming meeting. Finally, with this notice we also describe the U.S. approach to preparations for CoP14.

DATES: We will consider all information and comments received by March 20, 2006.

ADDRESSES: Send correspondence pertaining to species proposals to the Division of Scientific Authority; U.S. Fish and Wildlife Service; 4401 North Fairfax Drive; Room 750; Arlington, Virginia 22203, or via E-mail to: scientificauthority@fws.gov. Comments and materials received pertaining to species proposals will be available for public inspection, by appointment, from 8 a.m. to 4 p.m., Monday through Friday, at the Division of Scientific Authority.

Send correspondence pertaining to resolutions, decisions, and agenda items to the Division of Management Authority; U.S. Fish and Wildlife Service; 4401 North Fairfax Drive; Room 700; Arlington, Virginia 22203, or via E-mail at: CoP14@fws.gov. Comments and materials received pertaining to resolutions, decisions, and agenda items will be available for public inspection, by appointment, from 8 a.m. to 4 p.m., Monday through Friday, at the Division of Management Authority.

FOR FURTHER INFORMATION CONTACT: For information pertaining to species proposals: Robert R. Gabel, Chief, Division of Scientific Authority, phone 703-358-1708, fax 703-358-2276, E-mail: scientificauthority@fws.gov.

For information pertaining to resolutions, decisions, and agenda items: Peter O. Thomas, Chief, Division of Management Authority, phone 703-358-2095, fax 703-358-2298, E-mail: CoP14@fws.gov.

SUPPLEMENTARY INFORMATION

Background

The Convention on International Trade in Endangered Species of Wild Fauna and Flora, hereinafter referred to as CITES or the Convention, is an international treaty designed to control and regulate international trade in certain animal and plant species that are now or potentially may be threatened with extinction. These species are listed in the Appendices to CITES, which are available on the CITES Secretariat's Web site at http://www.cites.org/eng/app/index.shtml. Currently, 169 countries, including the United States, are Parties to CITES. The Convention calls for biennial meetings of the Conference of the Parties, which review its implementation, make provisions enabling the CITES Secretariat in Switzerland to carry out its functions, consider amendments to the list of species in Appendices I and II, consider reports presented by the Secretariat, and make recommendations for the improved effectiveness of CITES. Any country that is a Party to CITES may propose amendments to Appendices I and II, resolutions, decisions, and/or agenda items for consideration by all the Parties.

This is our first in a series of Federal Register notices that, together with announced public meetings, provide you with an opportunity to participate in the development of the U.S. negotiating positions for the fourteenth regular meeting of the Conference of the Parties to CITES (CoP14). Our regulations governing this public process are found in 50 CFR 23.31-23.39.

Announcement of the Fourteenth Meeting of the Conference of the Parties

We hereby notify you of the convening of CoP14, which is tentatively scheduled to be held June 3-15, 2007, in The Hague, Netherlands.

U.S. Approach for CoP14

What Are the Priorities for U.S. Submissions to CoP14?

Priorities for U.S. submissions to CoP14 continue to be consistent with the overall objective of U.S. participation in the Convention: to maximize the effectiveness of the Convention in the conservation and sustainable use of species subject to international trade. With this in mind, we plan to consider the following factors in determining which issues to submit for inclusion in the agenda at CoP14:

(1) Does the proposed action address a serious wildlife trade issue that the United States is experiencing as a range country for species in trade? Since our primary responsibility is the conservation of our domestic wildlife resources, we will give native species our highest priority. We will place particular emphasis on terrestrial and freshwater species with the majority of their range in the United States and its territories that are or may be in significant trade; marine species that occur in U.S. waters or for which the United States is a major exporter; and threatened and endangered species for which we and other Federal and State agencies already have statutory responsibility for protection and recovery. We also consider CITES listings as a proactive measure to monitor and manage trade in native species to preclude the need for the application of stricter measures, such as listing under the Endangered Species Act and/or inclusion in CITES Appendix I.

(2) Does the proposed action address a serious wildlife trade issue for species not native to the United States? As a major importer of wildlife and wildlife products, the United States has taken responsibility, by working in close consultation with range countries, for addressing cases of potential over-exploitation of foreign species in the wild. In some cases, the United States may not be a range country or a significant trading country for a species, but we will work closely with other countries to conserve species being threatened by unsustainable exploitation for international trade. We will consider CITES listings for species not native to the United States if that listing will assist in addressing cases of potential over-exploitation of foreign species in the wild, and in preventing illegal, unregulated trade, especially if the United States is a major importer. These species will be prioritized based on the extent of trade and status of the species, and also the role the species play in the ecosystem, with emphasis on those species for which a CITES listing would offer the greatest conservation benefits to the species, associated species, and their habitats.

(3) Does the proposed action address difficulties in implementing or interpreting the Convention by the United States as an importing or exporting country, and would the proposed action contribute to the effective implementation of the Convention by all Parties? Differences in interpretation of the Convention by 169 Party nations can result in inconsistencies in the way it is implemented. In addition, wildlife trade is dynamic and ever-changing, thus presenting problems when established procedures are not readily applicable to new situations. The United States experiences some of these problems and inconsistencies directly through its own imports and exports, but we also learn of these difficulties through our participation in various fora, such as the CITES Standing Committee and the technical committees, and through discussions with other countries, non-governmental organizations, and the Secretariat. When the United States cannot resolve these difficulties unilaterally or through one-on-one discussions with trading partners, it may propose resolutions or decisions, usually in collaboration with other Parties, or have these topics placed on the agenda of the meeting of the Conference of the Parties for discussion by all of the Parties.

(4) Does the proposed action improve implementation of the Convention by increasing the quality of information and expertise used to support decisions by the Parties? With increased complexity, sophistication, and specialization in the biological sciences and other disciplines, it is critical that the CITES Parties have the best available information upon which to base decisions that affect the conservation of wildlife resources. Where appropriate, the United States will recommend actions to ensure the availability of up-to-date and accurate information to the Parties, including through the establishment of relationships with relevant international bodies, including other conventions, interjurisdictional resource management agencies, and international non-governmental organizations with relevant expertise.

Request for Information and Recommendations for Amending Appendices I or II

One of the purposes of this notice is to solicit information and recommendations that will help us identify species that the United States should propose as candidates for addition to, removal from, or reclassification in the CITES Appendices, or to identify issues warranting attention by the CITES Nomenclature Committee. This request is not limited to species occurring in the United States. Any Party may submit proposals concerning animal or plant species occurring in the wild anywhere in the world. We encourage the submission of information on species for possible inclusion in the Appendices if these species are subject to international trade that may be detrimental to the survival of the species. We also encourage you to keep in mind the U.S. approach to CoP14, described above in this notice, when determining which species the United States should propose for possible inclusion in the Appendices.

Complete proposals are not being requested at this time, but are always welcome. Rather, we are asking you to submit convincing information describing: (1) The status of the species, especially trend information; (2) conservation and management programs for the species, including the effectiveness of enforcement efforts; and (3) the level of domestic as well as international trade in the species, especially trend information. You may also provide any other relevant information. References are appreciated.

The term “species” is defined in CITES as “any species, sub-species, or geographically separate population thereof.” Each species for which trade is controlled under CITES is included in one of three Appendices, either as a separate listing or incorporated within the listing of a higher taxon. The basic standards for inclusion of species in the Appendices are contained in Article II of CITES. Appendix I includes species threatened with extinction that are or may be affected by trade. Appendix II includes species that, although not necessarily now threatened with extinction, may become so unless trade in them is strictly controlled. Appendix II also lists species that must be subject to regulation in order that trade in other CITES-listed species may be brought under effective control. Such listings frequently are necessary because of difficulty inspectors have at ports of entry or exit in distinguishing specimens of currently or potentially threatened species from other species. As Appendix III only includes species that any Parties list unilaterally, we are not seeking input on possible U.S. Appendix-III listings with this notice, and we will not consider or respond to comments received concerning Appendix-III listings.

CITES specifies that international trade in any readily recognizable parts or derivatives of animals listed in Appendices I or II, or plants listed in Appendix I, is subject to the same conditions that apply to trade in the whole organisms. With certain standard exclusions formally approved by the Parties, the same applies to the readily recognizable parts and derivatives of most plant species listed in Appendix II. Parts and derivatives usually not included (i.e., not regulated) for Appendix-II plants are: seeds, spores, pollen (including pollinia), and seedlings or tissue cultures obtained in vitro and transported in sterile containers. You may refer to 50 CFR 23.23(d); and the October 6, 1995, Federal Register (60 FR 52450) and February 22, 1996, Federal Register (61 FR 6793) for further exceptions and limitations.

In 1994, the CITES Parties adopted criteria for inclusion of species in Appendices I and II, which were revised at CoP13 (in Resolution Conf. 9.24 (Rev. CoP13)) in October 2004. These criteria apply to all listing proposals and are available from the CITES Secretariat's Web site at http://www.cites.org, or upon request from the Division of Scientific Authority at the above address. Resolution Conf. 9.24 (Rev. CoP13) also provides a format for complete proposals.

What Information Should Be Submitted?

In response to this notice, to provide us with information and recommendations on species subject to international trade for possible proposals to amend the Appendices, please include as much of the following information as possible in your submission:

(1) Scientific name and common name;

(2) Population size estimates (including references if available);

(3) Population trend information;

(4) Threats to the species (other than trade);

(5) Level/trend of international trade (as specific as possible but without a request for new searches of our records);

(6) Level/trend in total take from the wild (as specific as reasonable); and

(7) Short summary statement clearly presenting the rationale for inclusion in or removal or transfer from one of the Appendices, including which of the criteria in Resolution Conf. 9.24 (Rev. CoP13) are met.

If you wish to submit more complete proposals for us to consider, please consult Resolution Conf. 9.24 (Rev. CoP13) for the format for proposals and a detailed explanation of each of the categories. Proposals to transfer a species from Appendix I to Appendix II, or to remove a species from Appendix II, must also be in accordance with the precautionary measures described in Annex 4 of Resolution Conf. 9.24 (Rev. CoP13). If you have information on species that are potential candidates for CITES proposals, we encourage you to contact the Division of Scientific Authority.

What Will We Do With the Information We Receive?

One important function of the CITES Scientific Authority of each Party country is the monitoring of international trade in plant and animal species, and ongoing scientific assessments of the impact of that trade on species. For native U.S. species listed in Appendix I and II, we monitor trade and export permits we authorize, so that we can prevent over-utilization and restrict exports if necessary. We also work closely with our States, to ensure that species are correctly listed in the CITES Appendices (or not listed, if a listing is not warranted). We actively seek information about U.S. and foreign species subject to international trade. The information submitted will help us monitor trade and its impact, as well as help us decide if we should submit or co-sponsor a proposal to amend the CITES Appendices. However, there may be species that qualify for CITES listing but for which we decide not to submit a proposal to CoP14. Our decision will be based on a number of factors, including scientific and trade information, whether or not the species is native to the United States, and for foreign species, whether or not a proposal is supported or co-sponsored by at least one range country for the species. These factors and others are included in the U.S. approach to CoP14, described above in this notice. We intend to carefully consider all factors of the U.S. approach when deciding which species the United States should propose for possible inclusion in the Appendices.

We will consult range countries for foreign species, and for species we share with other countries, subsequent to receiving and analyzing the information provided by the public.

Request for Information and Recommendations on Resolutions, Decisions, and Agenda Items

Although we have not yet received formal notice of the provisional agenda for CoP14, we invite your input on possible agenda items that the United States could recommend for inclusion, or on possible resolutions and/or decisions of the Conference of the Parties that the United States could submit for consideration. Copies of the agenda and the results of the last meeting of the Conference of the Parties (CoP13) in Bangkok, Thailand, in October 2004, as well as copies of all resolutions and decisions of the Conference of the Parties currently in effect, are available from the CITES Secretariat's Web site (http://www.cites.org/) or the Division of Management Authority at the above address. Copies of a list of species proposals adopted at CoP13 are also available from the Division of Scientific Authority at the above address.

Observers

Article XI, paragraph 7 of CITES provides: “Any body or agency technically qualified in protection, conservation or management of wild fauna and flora, in the following categories, which has informed the Secretariat of its desire to be represented at meetings of the Conference by observers, shall be admitted unless at least one-third of the Parties present object:

(a) International agencies or bodies, either governmental or non-governmental, and national governmental agencies and bodies; and

(b) National non-governmental agencies or bodies which have been approved for this purpose by the State in which they are located.

Once admitted, these observers shall have the right to participate but not to vote.”

National agencies or organizations within the United States must obtain our approval to participate in CoP14, whereas international agencies or organizations must obtain approval directly from the CITES Secretariat. We will publish information in a future Federal Register notice on how to request approved observer status. A fact sheet on the process is posted on our Web site at: http://www.fws.gov/international/pdf/ob.pdf.

Future Actions

The next regular meeting of the Conference of the Parties (CoP14) is tentatively scheduled to be held June 3-15, 2007, in The Hague, Netherlands. We have developed a tentative U.S. schedule to prepare for that meeting. The United States must submit any proposals to amend Appendix I or II, or any draft resolutions, decisions, and/or agenda items for discussion at CoP14, to the CITES Secretariat 150 days prior to the start of the meeting. In order to accommodate this deadline, we plan to publish a Federal Register notice approximately 10 months prior to CoP14 announcing tentative species proposals, draft resolutions, draft decisions, and agenda items to be submitted by the United States, and to solicit further information and comments on them.

Approximately 9 months prior to CoP14, we will tentatively hold a public meeting to allow for additional public input. Approximately 4 months prior to CoP14, we will post on our Web site an announcement of the species proposals, draft resolutions, draft decisions, and agenda items submitted by the United States to the CITES Secretariat for consideration at CoP14. The deadline for submission of the proposals, draft resolutions, draft decisions, and agenda items to the Secretariat will be 150 days prior to the start of the meeting (tentatively early January 2007).

Through a series of additional notices and Web site postings in advance of CoP14, we will inform you about preliminary negotiating positions on resolutions, decisions, and amendments to the Appendices proposed by other Parties for consideration at CoP14, and about how to obtain observer status from us. We will also publish announcements of public meetings tentatively to be held approximately 9 months prior to CoP14, and approximately 2 months prior to CoP14, to receive public input on our positions regarding CoP14 issues.

Author: The primary authors of this notice are Frank Kohn and Clifton Horton, Division of Management Authority; under the authority of the U.S. Endangered Species Act of 1973, as amended (16 U.S.C. 1531 et seq.).

Dated: December 21, 2005.
Marshall Jones,
Director, Fish and Wildlife Service.

(Notice: Request for information and recommendations on species proposals, resolutions, decisions, and agenda items for consideration at the fourteenth regular meeting of the Conference of the Parties to CITES; U.S. approach for the meeting of the Conference of the Parties.)

[FR Doc. E6-594 Filed 1-19-06; 8:45 am]

BILLING CODE 4310-55-P